DEPARTMENT OF VETERANS AFFAIRS

[OMB Control No. 2900-NEW]

Agency Information Collection Activity: GI Bill Comparison Tool Ratings Survey

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each new collection of information, and allow 60 days for public comment in response to the notice.

DATES: Written comments and recommendations on the proposed collection of information should be received on or before August 12, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-NEW” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION: Under the PRA of 1995, Federal agencies must obtain approval from the Office of Management and Budget (OMB) for each collection of information they conduct or sponsor. This request for comment is being made pursuant to Section 3506(c)(2)(A) of the PRA. With respect to the following collection of information, VBA invites comments on: (1) whether the revision of a previously approved collection of information is necessary for the proper performance of VBA's functions, including whether the information will have practical utility; (2) the accuracy of VBA's estimate of the burden of the revision of a previously approved collection of information; (3) ways to enhance the quality, utility, and clarity of the information to be collected; and (4) ways to minimize the burden of the collection of information on respondents, including through the use of automated collection techniques or the use of other forms of information technology.

Authority: Executive Order 12862; Paperwork Reduction Act of 1995 Section 3507.

Title: GI Bill Comparison Tool Ratings Survey.

OMB Control Number: 2900-NEW.

Type of Review: New Information Collection.

Abstract: The Comparison Tool Survey submitted for OMB's approval through regular ICR 3-year collection for the Collection of Qualitative Feedback on Agency Service Delivery” is being submitted to Veterans and eligible beneficiaries who recently graduated from college. The sampled customers will be contacted through an invitation email. A link will be enclosed so the survey may be completed using an online interface, with customized customer information. The survey itself consists of a handful of questions revolving around a human-centered design, focusing on such elements as trust, emotion, effective, and ease with the services and educational care they received.

The information provided will be used by VA to measure how recent graduates who used the GI Bill feel about the institution they attended, and the education they received. This includes quality of classes, in person versus online learning, GI Bill support (or supportiveness of school certifying officials), degree of support for the Veteran community at the institution, and overall experience.

Affected Public: Individuals and households.

Estimated Annual Burden: 118 hours.

Estimated Average Burden per Respondent: 5 minutes.

Frequency of Response: Twice Annually.

Estimated Number of Respondents: 1416.

By direction of the Secretary.
Dorothy Glasgow,
VA PRA Clearance Officer, (Alt), Office of Enterprise and Integration/Data Governance Analytics, Department of Veterans Affairs.

[FR Doc. 2022-12659 Filed 6-10-22; 8:45 am]

BILLING CODE 8320-01-P